DEPARTMENT OF COMMERCE

Office of the Secretary

15 CFR Part 4

[Docket No.: 070613195-7196-01]

RIN 0605-AA25

Disclosure of Government Information; Change to Designated Official

AGENCY: Department of Commerce.

ACTION: Final rule.

SUMMARY: This rule amends the Department of Commerce's (Department) Freedom of Information Act (FOIA) regulations by changing the official authorized to deny requests for records under the Freedom of Information Act, and requests for correction or amendment under the Privacy Act (PA), for the Bureau of the Census.

DATES: Effective July 5, 2007.

FOR FURTHER INFORMATION CONTACT: Christa D. Jones, Chief of the Policy Office, Bureau of the Census, 301-763-7310.

SUPPLEMENTARY INFORMATION: Appendix B to 15 CFR Part 4 designates the officials authorized to deny requests for records under the FOIA, and requests for records and requests for correction or amendment under the PA. In order to change the designated official for the Bureau of the Census, we are amending the regulations.

Classification

It has been determined that this notice is not significant for purposes of E.O. 12866. It has been determined that this notice does not contain policies with Federalism implications as that term is defined in E.O. 13132.

Prior notice and an opportunity for public comment are not required by the Administrative Procedure Act for rules concerning agency organization, procedure, or practice (5 U.S.C. 553(b)(A)). The Department finds good cause to waive the 30-day delay in effectiveness because it is unnecessary. This rule merely changes the name of the official who is authorized to deny requests for records under the Freedom of Information Act, and requests for correction or amendment under the Privacy Act. 5 U.S.C.(d)(3).

Because notice and opportunity for comment are not required pursuant to 5 U.S.C. 553 or any other law, the analytical requirements of the Regulatory Flexibility Act (5 U.S.C. 601 et seq.) are inapplicable. Therefore, a regulatory flexibility analysis is not required and has not been prepared.

List of Subjects in 15 CFR Part 4

Freedom of information, Privacy.

For the reasons above, amend 15 CFR Part 4 as follows:

PART 4—DISCLOSURE OF GOVERNMENT INFORMATION

1. The authority citation for Part 4 continues to read as follows:

Authority: 5 U.S.C. 301; 5 U.S.C. 552; 5 U.S.C. 552a; 5 U.S.C. 553; 31 U.S.C. 3717; 44 U.S.C. 3101; Reorganization Plan No. 5 of 1950.

Appendix B to Part 4—[Amended]

2. In Appendix B to part 4, under the heading ECONOMICS AND STATISTICS ADMINISTRATION, delete “Bureau of the Census: Manager, Freedom of Information Act” and replace with “Bureau of the Census: Freedom of Information Act Officer”.

Dated: June 28, 2007.
Brenda Dolan,
Departmental Freedom of Information and Privacy Act Officer.

[FR Doc. E7-13001 Filed 7-3-07; 8:45 am]

BILLING CODE 3510-07-P